FEDERAL COMMUNICATIONS COMMISSION

[MB Docket No. 97-80; DA 14-46]

Media Bureau Seeks Comment on TiVo's Request for Clarification or Waiver of the Audiovisual Output Requirement of Section 76.640(b)(4)(iii)

AGENCY: Federal Communications Commission.

ACTION: Notice.

SUMMARY: In this document, the Media Bureau seeks comment on a petition for waiver or clarification filed by TiVo Inc. TiVo Inc.'s petition requests that the Bureau waive a rule that requires set-top boxes to have a certain audiovisual output, or clarify that the rule is not in effect.

DATES: Submit comments on or before February 14, 2014. Submit reply comments on or before February 28, 2014.

FOR FURTHER INFORMATION CONTACT: For additional information on this proceeding, contact Brendan Murray, Brendan.Murray@fcc.gov, of the Media Bureau, Policy Division, (202) 418-2120.

SUPPLEMENTARY INFORMATION: TiVo Inc. (“TiVo”) has filed a petition for clarification or waiver of 47 CFR 76.640(b)(4)(iii). Section 76.640(b)(4)(iii) requires that set-top boxes provided by cable operators include a digital interface to enable consumers to connect consumer electronics devices that they own to set-top boxes that they lease from their cable operators for whole-home viewing and recording. TiVo asserts that the “touchstone” solution for home networking has not been published publicly, and therefore requests that the Commission extend waiver until “compliance is achievable on an industry-wide basis that includes TiVo.” Alternatively, TiVo requests that we clarify whether the rule is still in effect in the wake of the D.C. Circuit's decision in Echostar Satellite, LLC v. FCC. We seek comment on TiVo's request.

This proceeding will be treated as “permit but disclose” for purposes of the Commission's ex parte rules. As a result of the permit-but-disclose status of this proceeding, ex parte presentations will be governed by the procedures set forth in 47 CFR 1.1206.

Comments and oppositions are due February 14, 2014. Petitioner's reply is due February 28, 2014. All filings must be submitted in CS Docket No. 97-80. Pleadings sent via email to the Commission will be considered informal and will not be part of the official record. Interested parties will have access to comments online through the Commission's Electronic Comment Filing System (ECFS), and therefore we waive the requirements of Sections 76.7(b)(1) and 76.7(c)(1) that comments and oppositions be served on interested parties.

Comments may be filed using: (1) (ECFS), (2) the Federal Government's eRulemaking Portal, or (3) by filing paper copies.

Electronic Filers: Comments may be filed electronically using the Internet by accessing the ECFS: http://www.fcc.gov/cgb/ecfs or the Federal eRulemaking Portal: http://www.regulations.gov. Filers should follow the instructions provided on the Web site for submitting comments.

For ECFS filers, in completing the transmittal screen, filers should include their full name, U.S. Postal service mailing address, and the applicable docket number: MB Docket No. 12-230. Parties may also submit an electronic comment by Internet email. To get filing instructions, filers should send an email to ecfs@fcc.gov, and include the following words in the body of the message: “get form”. A sample form and instructions will be sent in response.

Paper Filers: Parties who choose to file by paper must file an original and four copies of each filing. Filings can be sent by hand or messenger delivery, by commercial overnight courier, or by first-class or overnight U.S. Postal Service mail. All filings must be addressed to the Commission's Secretary, Office of the Secretary, Federal Communications Commission.

All hand-delivered or messenger-delivered paper filings for the Commission's Secretary must be delivered to FCC Headquarters at 445 12th St. SW., Room TW-A325, Washington, DC 20554. All hand deliveries must be held together with rubber bands or fasteners. Any envelopes must be disposed of before entering the building. The filing hours are 8:00 a.m. to 7:00 p.m.

Commercial overnight mail (other than U.S. Postal Service Express Mail and Priority Mail) must be sent to 9300 East Hampton Drive, Capitol Heights, MD 20743.

U.S. Postal Service first-class, Express, and Priority mail must be addressed to 445 12th Street SW., Washington, DC 20554.

One copy of each pleading must be sent to Brendan Murray, Media Bureau, Room 4-A726, 445 12th Street SW., Washington, DC 20554 or Brendan.Murray@fcc.gov.

Copies of the Waiver Request and any subsequently filed documents in this matter are also available for inspection in the Commission's Reference Information Center: 445 12th Street SW., Room CY-B402, Washington, DC 20554, (202) 418-0270.

Alternate formats of this Public Notice (computer diskette, large print, audio recording, or Braille) are available to persons with disabilities by contacting the Consumer and Governmental Affairs Bureau at (202) 418-0530 or (202) 418-7365 (TTY).

Federal Communications Commission.
Thomas Horan,
Chief of Staff, Media Bureau.

[FR Doc. 2014-02443 Filed 2-5-14; 8:45 am]

BILLING CODE 6712-01-P